DEPARTMENT OF COMMERCE

Bureau of Industry and Security

Action Affecting Export Privileges; Zlatko Brkic

Order

The Bureau of Industry and Security, United States Department of Commerce (“BIS”) having notified Zlatko Brkic (“Brkic”) of its intention to initiate an administrative proceeding against Brkic pursuant to section 766.3 of the Export Administration Regulations (currently codified at 15 CFR parts 730-774 (2004)) (“Regulations”),¹ and section 13(c) of the Export Administration Act of 1979, as amended (50 U.S.C. app. sections 2401-2420 (2000)) (“Act”),² based on the proposed charging letter issued to Brkic that alleged that Brkic committed two violations of the Regulations. Specifically, the charges are:

¹ The violations charged occurred in 1999. The Regulations governing the violations at issue are found in the 1999 version of the Code of Federal Regulations (15 CFR Parts 730-774 (1999)). The 2004 Regulations establish the procedures that apply to this matter.

² From August 21, 1994 through November 12, 2000, the Act was in lapse. During that period, the President, through Executive Order 12924, which had been extended by successive Presidential Notices, the last of which was August 3, 2000 (3 CFR, 2000 Comp. 397 (2001)), continued the Regulations in effect under the International Emergency Economic Powers Act (50 U.S.C. 1701-1706 (2000)) (“IEEPA”). On November 13, 2000, the Act was reauthorized and it remained in effect through August 20, 2001. Since August 21, 2001, the Act has been in lapse and the President, through Executive Order 13222 of August 17, 2001 (3 CFR, 2001 Comp. 783 (2002)), as extended by the Notice of August 7, 2003 (3 CFR, 2003 Comp. 328 (2004)), has continued the Regulations in effect under the IEEPA.

1. One Violation of 15 CFR 764.2(c)—Attempted export without a license: On or about September 29, 1999, Brkic attempted to export items subject to the Regulations (handcuffs covered by Export Control Classification Number 0A982) from the United States to Ekohemija DJL, in Sarajevo, Bosnia and Herzegovina, without the Department of Commerce license required by Section 742.7 of the Regulations.

2. One Violation of 15 CFR 764.2(e)—Acting With Knowledge of a Violation: On or about September 29, 1999, when Brkic attempted to transfer items subject to the Regulations (handcuffs covered by Export Control Classification Number 0A982) to Bosnia and Herzegovina as described above, Brkic had knowledge that a Department of Commerce license was required for the export.

BIS and Brkic having entered into a Settlement Agreement pursuant to Section 766.18(a) of the Regulations whereby they agreed to settle this matter in accordance with the terms and conditions set forth therein, and the terms of the Settlement Agreement having been approved by me;

It is therefore ordered:

First, that a civil penalty of $20,000 is assessed against Brkic, which shall be paid to the U.S. Department of Commerce within 30 days from the date of entry of this Order. Payment shall be made in the manner specified in the attached instructions.

Second, that, pursuant to the Debt Collection Act of 1982, as amended (31 U.S.C. 3701-3720E (2000)), the civil penalty owed under this Order accrues interest as more fully described in the attached Notice, and, if payment is not made by the due date specified herein, Brkic will be assessed, in addition to the full amount of the civil penalty and interest, a penalty charge and an administrative charge, as more fully described in the attached Notice.

Third, that the timely payment of the civil penalty set forth above is hereby made a condition to the granting, restoration, or continuing validity of any export license, license exception, permission, or privilege granted, or to be granted, to Brkic. Accordingly, if Brkic should fail to pay the civil penalty in a timely manner, the undersigned may enter an Order denying all of Brkic's export privileges for a period of one year from the date of entry of this Order.

Fourth, for a period two years from the date of entry of the Order, Zlatko Brkic, 5712 North Campbell, #2, Chicago, IL 60659-5116, his successors or assigns, and when acting for or on behalf of Brkic, his officers, representatives, agents, or employees (“Denied Person”) may not participate, directly or indirectly, in any way in any transaction involving any commodity, software or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Fifth, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the denied person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Sixth, that, after notice and opportunity for comment as provided in Section 766.23 of the Regulations, any person, firm, corporation, or business organization related to Brkic by affiliation, ownership, control, or position of responsibility in the conduct of trade or related services may also be made subject to the provisions of the Order.

Seventh, that this Order does not prohibit any export, reexport, or other transaction subject to the Regulations where the only items involved that are subject to the Regulations are the foreign-produced direct product of U.S.-origin technology.

Eighth, that, as authorized by Section 766.18(c) of the Regulations, the $20,000 civil penalty set forth above shall be suspended in its entirety for one year from the date of this Order, and shall thereafter be waived, provided that during the period of suspension, Brkic has committed no violation of the Act or any regulation, order or license issued thereunder.

Ninth, that the proposed charging letter, the Settlement Agreement, and this Order shall be made available to the public.

This Order, which constitutes the final agency action in this matter, is effective immediately.

Entered this 12th day of August 2004.
Julie L. Myers,
Assistant Secretary of Commerce for Export Enforcement.

[FR Doc. 04-18877 Filed 8-17-04; 8:45 am]

BILLING CODE 3510-DT-M